NATIONAL CREDIT UNION ADMINISTRATION

Sunshine Act Meeting

Time and Date: 11:30 a.m., Thursday, February 15, 2007.

Place: Board Room, 7th Floor, Room 7047, 1775 Duke Street, Alexandria, VA 22314-3428.

Status: Closed.

Matters to Be Considered: 1. Administrative Action under Section 208 of the Federal Credit Union Act. Closed pursuant to Exemptions (8), (9)(A)(ii), and (B).

For Further Information Contact: Mary Rupp, Secretary of the Board, Telephone: 703-518-6304.

Mary Rupp,
Secretary of the Board.

[FR Doc. 07-700 Filed 2-12-07; 12:31 pm]

BILLING CODE 7535-01-M